FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 004619NF.

Name: Amad Corporation dba Amad Shipping dba Amad Forwarding.

Address: 1402 NW. 82nd Ave., Miami, FL 33126.

Date Revoked: May 13, 2007.

Reason: Failed to maintain valid bonds.

License Number: 012686N.

Name: Gulf American Line, Inc.

Address: 330 Snyder Ave., Berkeley Heights, NJ 07922.

Date Revoked: May 9, 2007.

Reason: Failed to maintain a valid bond.

License Number: 018499N.

Name: Hye Mi Express U.S.A., Inc.

Address: 3545 McCall Place, Ste. A, Doraville, GA 30340.

Date Revoked: May 12, 2007.

Reason: Failed to maintain a valid bond.

License Number: 017068F.

Name: Incare Cargo Service, Inc.

Address: 8402 Osage Ave., Los Angeles, CA 90045.

Date Revoked: May 11, 2007.

Reason: Failed to maintain a valid bond.

License Number: 002769F.

Name: New York Forwarding Services Inc.

Address: 330 Snyder Ave., Berkeley Heights, NJ 07922.

Date Revoked: May 13, 2007.

Reason: Failed to maintain a valid bond.

License Number: 019658F.

Name: Victor C. Chukwuocha dba Chukwuocha Motors.

Address: 5015 Lark Creek Court, Sugarland, TX 77479.

Date Revoked: May 9, 2007.

Reason: Failed to maintain a valid bond.

Sandra L. Kusumoto,
Director, Bureau of Certification and Licensing.

[FR Doc. E7-10495 Filed 5-30-07; 8:45 am]

BILLING CODE 6730-01-P